DEPARTMENT OF ENERGY

Federal Energy Regulatory Commission

Combined Notice of Filings #1

Take notice that the Commission received the following electric rate filings:

Docket Numbers: ER04-157-033; ER04-714-022; EL05-89-011.

Applicants: Bangor Hydro-Electric Company; Florida Power & Light Company New England.

Description: Report/Form of Northeast Utilities Service Company.

Filed Date: 10/06/2011.

Accession Number: 20111006-5150.

Comment Date: 5 p.m. Eastern Time on Thursday, October 27, 2011.

Docket Numbers: ER10-2288-005.

Applicants: Optim Energy Marketing, LLC.

Description: Notice of Non-Material Change in Status of Optim Energy Marketing, LLC.

Filed Date: 10/06/2011.

Accession Number: 20111006-5105.

Comment Date: 5 p.m. Eastern Time on Thursday, October 27, 2011.

Docket Numbers: ER11-3277-002.

Applicants: Sky River LLC.

Description: Sky River LLC submits tariff filing per 35: Sky River LLC Open Access Transmission Tariff Compliance Filing to be effective 10/7/2011.

Filed Date: 10/06/2011.

Accession Number: 20111006-5111.

Comment Date: 5 p.m. Eastern Time on Thursday, October 27, 2011.

Docket Numbers: ER11-4443-001.

Applicants: AK Electric Supply, LLC.

Description: AK Electric Supply, LLC submits tariff filing per 35: Amended MBR Filing to be effective 9/6/2011.

Filed Date: 10/06/2011.

Accession Number: 20111006-5119.

Comment Date: 5 p.m. Eastern Time on Thursday, October 27, 2011.

Docket Numbers: ER11-4618-002.

Applicants: White Pine Electric Power.

Description: White Pine Electric Power submits tariff filing per 35: Market-Based Rate Tariff Compliance to be effective 9/23/2011.

Filed Date: 10/06/2011.

Accession Number: 20111006-5123.

Comment Date: 5 p.m. Eastern Time on Thursday, October 27, 2011.

Docket Numbers: ER12-38-000.

Applicants: Wisconsin Electric Power Company.

Description: Wisconsin Electric Power Company submits tariff filing per 35.13(a)(2)(iii: Wisconsin Electric Rate Schedule No. 129 Letter of Concurrence to be effective 10/4/2011.

Filed Date: 10/06/2011.

Accession Number: 20111006-5120.

Comment Date: 5 p.m. Eastern Time on Thursday, October 27, 2011.

Docket Numbers: ER12-39-000.

Applicants: Flat Ridge Wind Energy, LLC.

Description: Flat Ridge Wind Energy, LLC submits tariff filing per 35.13(a)(2)(iii: Updated Market-Based Rate Tariff Update to be effective 12/5/2011.

Filed Date: 10/06/2011.

Accession Number: 20111006-5122.

Comment Date: 5 p.m. Eastern Time on Thursday, October 27, 2011.

Docket Numbers: ER12-40-000.

Applicants: GDF SUEZ Energy Resources NA, Inc.

Description: Refund Report of GDF SUEZ Energy Resources NA, Inc.

Filed Date: 10/06/2011.

Accession Number: 20111006-5154.

Comment Date: 5 p.m. Eastern Time on Thursday, October 27, 2011.

Docket Numbers: ER12-41-000.

Applicants: ITC Midwest LLC.

Description: ITC Midwest LLC submits tariff filing per 35.13(a)(2)(iii: Filing of Joint Use Pole Agreements to be effective 12/7/2011.

Filed Date: 10/07/2011.

Accession Number: 20111007-5025.

Comment Date: 5 p.m. Eastern Time on Friday, October 28, 2011.

Docket Numbers: ER12-42-000.

Applicants: Smart Papers Holdings LLC.

Description: Smart Papers Holdings LLC submits tariff filing per 35.1: Smart Papers Holdings LLC MBR to be effective 10/6/2011.

Filed Date: 10/07/2011.

Accession Number: 20111007-5032.

Comment Date: 5 p.m. Eastern Time on Friday, October 28, 2011.

Docket Numbers: ER12-43-000.

Applicants: Wisconsin Electric Power Company.

Description: Wisconsin Electric Power Company submits tariff filing per 35.13(a)(2)(iii: Wisconsin Electric Rate Schedule No. 128 Letter of Concurrence to be effective 10/4/2011.

Filed Date: 10/07/2011.

Accession Number: 20111007-5034.

Comment Date: 5 p.m. Eastern Time on Friday, October 28, 2011.

Docket Numbers: ER12-44-000.

Applicants: Public Service Company of New Mexico.

Description: Public Service Company of New Mexico submits tariff filing per 35.12: OATT Service Agreement No. 341 to be effective 12/7/2011.

Filed Date: 10/07/2011.

Accession Number: 20111007-5050.

Comment Date: 5 p.m. Eastern Time on Friday, October 28, 2011.

Take notice that the Commission received the following electric securities filings:

Docket Numbers: ES12-3-000.

Applicants: National Grid USA.

Description: Application of National Grid USA on Behalf of Certain of its Subsidiaries and Affiliates for Authorization to Issue Securities under Section 204 of the Federal Power Act.

Filed Date: 10/06/2011.

Accession Number: 20111006-5147.

Comment Date: 5 p.m. Eastern Time on Thursday, October 27, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 07, 2011.
Nathaniel J. Davis, Sr.,
Deputy Secretary.

[FR Doc. 2011-26864 Filed 10-17-11; 8:45 am]

BILLING CODE 6717-01-P